DEPARTMENT OF TRANSPORTATION

Office of the Secretary; Notice of Order Soliciting Community Proposals

AGENCY: Department of Transportation.

ACTION: Notice of Order Soliciting Community Proposals (Order 2002-2-11), Docket OST-2002-11590.

SUMMARY: The Department of Transportation is instituting a new small community air service development program by soliciting an initial round of proposals from interested communities and consortiums of communities.

DATES: Proposals should be submitted no later than 60 days after the service date of Order 2002-2-11, April 22, 2002.

ADDRESSES: Interested parties should submit an original and five copies of their proposals, bearing the title “Proposal under the Small Community Air Service Development Pilot Program, Docket OST-2002-11590” as well as the name of the community or consortium of communities, and the legal sponsor, to the Docket Operations and Media Management Division, SVC-124, Room PL-401, Department of Transportation, 400 7th Street, SW, Washington, DC 20590.

FOR FURTHER INFORMATION CONTACT: Matthew C. Harris, Special Assistant to the Assistant Secretary for Aviation and International Affairs, Department of Transportation, 400 7th Street, SW, Washington, DC 20590 (202) 366-8822.

Dated: February 22, 2002.
Read C. Van de Water,
Assistant Secretary for Aviation and International Affairs.

[FR Doc. 02-4850 Filed 2-27-02; 8:45 am]

BILLING CODE 4910-62-P